DEPARTMENT OF ENERGY

Federal Energy Regulatory Commission

Combined Notice of Filings

Take notice that the Commission has received the following Natural Gas Pipeline Rate and Refund Report filings:

Filings Instituting Proceedings

Docket Numbers: RP21-1139-000.

Applicants: Texas Eastern Transmission, LP.

Description: § 4(d) Rate Filing: Negotiated Rates—Middlesex Ext CPV 911793 to be effective 9/25/2021.

Filed Date: 9/22/21.

Accession Number: 20210922-5039.

Comment Date: 5 p.m. ET 10/4/21.

Docket Numbers: RP21-1140-000.

Applicants: Tallgrass Interstate Gas Transmission, LLC.

Description: § 4(d) Rate Filing: TIGT 2021-09-22 Negotiated Rate Agreement Amendment to be effective 9/1/2021.

Filed Date: 9/22/21.

Accession Number: 20210922-5042.

Comment Date: 5 p.m. ET 10/4/21.

Docket Numbers: RP21-1141-000.

Applicants: Nautilus Pipeline Company, L.L.C.

Description: § 4(d) Rate Filing: Negotiated Rate—Talos 630210 eff 9-22-2021 to be effective 9/22/2021.

Filed Date: 9/22/21.

Accession Number: 20210922-5100.

Comment Date: 5 p.m. ET 10/4/21.

Docket Numbers: RP21-1142-000.

Applicants: Natural Gas Pipeline Company of America LLC.

Description: Compliance filing: Penalty Revenue Crediting Report from January through June 2021 to be effective N/A.

Filed Date: 9/23/21.

Accession Number: 20210923-5000.

Comment Date: 5 p.m. ET 10/5/21.

Docket Numbers: RP21-1144-000.

Applicants: Transcontinental Gas Pipe Line Company, LLC.

Description: § 4(d) Rate Filing: Non-Conforming—Atlantic Sunrise—JPMorgan Chase to be effective 1/1/2022.

Filed Date: 9/23/21.

Accession Number: 20210923-5059.

Comment Date: 5 p.m. ET 10/5/21.

Docket Numbers: RP21-1145-000.

Applicants: Tennessee Gas Pipeline Company, L.L.C.

Description:§ 4(d) Rate Filing: PAL NRA JP Morgan SP370513 & SP370514 to be effective 10/1/2021.

Filed Date: 9/24/21.

Accession Number: 20210924-5040.

Comment Date: 5 p.m. ET 10/6/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2021.
Debbie-Anne A. Reese,
Deputy Secretary.

[FR Doc. 2021-21408 Filed 9-30-21; 8:45 am]

BILLING CODE 6717-01-P